DEPARTMENT OF THE INTERIOR

Bureau of Land Management

[16X L1109AF LLUT980300 L10100000.XZ0000 24.1A]

Call for Nominations for the Utah Resource Advisory Council

AGENCY: Bureau of Land Management, Interior.

ACTION: Notice.

SUMMARY: The purpose of this notice is to request public nominations to fill one recently vacated position on the Utah Resource Advisory Council (RAC) in category three (employees of a State agency responsible for management of natural resources).

DATES: All nominations must be received no later than May 31, 2016.

ADDRESSES: Nominations should be sent to Lola Bird, Public Affairs Specialist, Utah State Office, Bureau of Land Management, 440 West 200 South, Suite 500, Salt Lake City, UT 84101.

FOR FURTHER INFORMATION CONTACT: Lola Bird, Bureau of Land Management, Utah State Office, 440 West 200 South, Suite 500, Salt Lake City, UT 84101; phone (801) 539-4033; or email lbird@blm.gov.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Federal Land Policy and Management Act (FLPMA) (43 U.S.C. 1739) directs the Secretary of the Interior to involve the public in planning and issues related to management of lands administered by the Bureau of Land Management (BLM). Section 309 of FLPMA directs the Secretary to establish 10- to 15-member citizen-based advisory councils that are consistent with the Federal Advisory Committee Act (FACA). As required by FACA, RAC membership must be balanced and representative of the various interests concerned with the management of the public lands.

The BLM-Utah RAC is hosting a call for nominations for a vacant position in category three (description addressed in the SUMMARY above). Upon appointment, the individual selected will fill the position until the term's ending date of June 22, 2018. Nominees must be residents of Utah. BLM will evaluate nominees based on their education, training, experience, and their knowledge of the geographical area. Nominees should demonstrate a commitment to collaborative resource decision making. The Obama Administration prohibits individuals who are currently federally registered lobbyists to serve on all FACA and non-FACA boards, committees, or councils. The following must accompany all nominations:

—Letters of reference from represented interest or organizations;

—A completed Resource Advisory Council application; and,

—Any other information that addresses the nominee's qualifications.

Simultaneous with this notice, the BLM-Utah State Office will issue a press release providing additional information for submitting nominations.

Authority: 43 CFR 1784.4-1.

Approved:
Jenna Whitlock,
Acting State Director.

[FR Doc. 2016-10171 Filed 4-28-16; 8:45 am]

BILLING CODE 4310-DQ-P